NATIONAL FOUNDATION ON THE ARTS AND THE HUMANITIES

National Council on the Arts 178th Meeting

AGENCY: National Endowment for the Arts, National Foundation on the Arts and Humanities.

ACTION: Notice of Meeting.

SUMMARY: Pursuant to section 10(a)(2) of the Federal Advisory Committee Act (Pub. L. 92-463), as amended, notice is hereby given that a meeting of the National Council on the Arts will be held at the Nancy Hanks Center, 1100 Pennsylvania Avenue NW., Washington, DC 20506. Agenda times are approximate.

DATES: March 29, 2013 from 9:00 a.m. to 11:30 a.m. in Room M-09.

FOR FURTHER INFORMATION CONTACT: Office of Public Affairs, National Endowment for the Arts, Washington, DC 20506, at 202/682-5570.

SUPPLEMENTARY INFORMATION: The meeting, on Friday, March 29th will be open to the public on a space available basis. The meeting will begin with opening remarks, swearing in of new Council members, and voting on recommendations for funding and rejection and guidelines, followed by updates by the Acting Chairman. There also will be the following presentations (times are approximate): From 9:45 a.m. to 10:15 a.m.—NEA Arts Education Strategic Plan presentation and update (Ayanna Hudson, Director of Arts Education); from 10:15 a.m. to 10:45 a.m.—Public Affairs presentation on the latest edition of NEA Arts; from 10:45 a.m. to 11:15 a.m.—The Cleveland Orchestra/Community Outreach presentation (Joan Katz, Director of Education and Community Engagement and Joshua Smith, Principal Flute Player); from 11:15 a.m. to 11:30 a.m.—concluding remarks and voting results. The meeting will adjourn at 11:30 a.m.

For information about webcasting of the open session of this meeting, go to the Podcasts, Webcasts, & Webinars tab at www.arts.gov.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/T.T.Y. 202/682-5496, at least seven (7) days prior to the meeting.

Dated: March 7, 2013.
Kathy Plowitz-Worden,
Panel Coordinator, Office of Guidelines and Panel Operations.

[FR Doc. 2013-05723 Filed 3-12-13; 8:45 am]

BILLING CODE 7537-01-P